DEPARTMENT OF HEALTH AND HUMAN SERVICES

Office of the Secretary

[Document Identifier: HHS-OS-0990-0388-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0388, scheduled to expire on July 31, 2015. Comments submitted during the first public review of this ICR will be provided to OMB. OMB will accept further comments from the public on this ICR during the review and approval period.

DATES: Comments on the ICR must be received on or before July 22, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0388 and document identifier HHS-OS-0990-0388 30D for reference.

Information Collection Request Title: Let's Move! Cities, Towns, and Counties -

Abstract: The Office of the Assistant Secretary for Health (OASH) is requesting an approval on an extension by Office of Management and Budget (OMB) on a currently approved information collection; the OMB number is 0990-0388. The project on, Let's Move! Cities, Towns and Counties (LMCTC), seeks to continue to conduct a survey of local government organizations for the Initiative. Let's Move is a comprehensive initiative, launched by the First Lady, Michelle Obama, dedicated to solving the challenge of childhood obesity within a generation. The online survey is the mechanism by which Let's Move! Cities, Towns and Counties report progress on the initiative's goals and are recognized for that progress. LMCTC calls on local elected officials to adopt long-term, sustainable, and holistic approaches to addressing childhood obesity. Local elected officials who sign up for the initiative are willing to commit to five goals that are intended to create healthier, more livable communities.

Therefore, the online survey is essential to the successful operation of the initiative. Since July 2012 until January 31 2015, 463 sites had signed up for Let's Move! Cities, Towns and Counties. Sites who have completed the online survey report that they have implemented a total of 2170 promising practices intended to promote healthy eating and active living for community residents.

Likely Respondents: This activity is requesting comment on the burden for a survey for local government officials who have chosen to participate in Let's Move! Cities, Towns and Counties. The survey requests information about the activities the locality has undertaken against the initiative's goals. The responses to these questions are used to show progress, and to recognize municipal and county sites' success in participating in Let's Move! Cities, Towns and Counties.

Total Estimated Annualized Burden—Hours
Form name | Number of respondents | Number of responses per respondent | Average burden per response (in hours) | Total burden hours
Government Official (city, town, county) | 500 | 1 | 30/60 | 250
Total |  |  |  |

Terry S. Clark,
Asst Information Collection Clearance Officer.

[FR Doc. 2015-15225 Filed 6-19-15; 8:45 am]

BILLING CODE 4150-28-P